DEPARTMENT OF ENERGY

Establishment of Online Portal for DOE Guidance Documents

AGENCY: Office of the General Counsel, Department of Energy.

ACTION: Notice of online portal for agency guidance documents.

SUMMARY: In accordance with an Executive Order and Office of Management and Budget (OMB) Memorandum M-20-02, the U.S. Department of Energy (DOE) established an online portal for the public to access DOE guidance documents. The portal provides links to DOE program web pages containing guidance documents, as required by the Executive Order.

DATES: The portal and associated link are currently active as of March 4, 2020.

ADDRESSES: The portal may be found at energy.gov/guidance.

FOR FURTHER INFORMATION CONTACT: Matthew Ring, U.S. Department of Energy, Office of the General Counsel, Forrestal Building, GC-33, 1000 Independence Avenue SW, Washington, DC 20585, (202) 586-2555, Email: Guidance@hq.doe.gov.

SUPPLEMENTARY INFORMATION: Executive Order 13891, “Promoting the Rule of Law Through Improved Agency Guidance Documents,” ¹ requires, among other things, that within 120 days of the issuance of implementing guidance from OMB,² agencies must establish an online database that contains or links to all agency guidance documents in effect. In accordance with E.O. 13891 and OMB's implementing guidance, set forth in OMB Memorandum M-20-02, DOE established an online portal for the public to access DOE guidance documents. This portal may be found at energy.gov/guidance. DOE's online guidance portal contains links to DOE program websites containing guidance documents, as that term is defined in E.O. 13891.³ The portal also reiterates that: (1) The contents of the guidance documents found through the portal do not have the force and effect of law and are not legally binding, except as authorized by law or as incorporated into a contract, and (2) these documents are intended only to provide clarity to the public regarding existing requirements under statutes and regulations administered by DOE.

¹ 84 FR 55235 (October 15, 2019).

² OMB issued its guidance memorandum on October 31, 2019. (See M-20-02, Guidance Implementing Executive Order 13891, Titled “Promoting the Rule of Law Through Improved Agency Guidance Documents” (October 31, 2019) available at https://www.whitehouse.gov/wp-content/uploads/2019/10/M-20-02-Guidance-Memo.pdf)

³ E.O. 13891 defines “guidance document” as “an agency statement of general applicability, intended to have future effect on the behavior of regulated parties, which sets forth a policy on a statutory, regulatory, or technical issue, or an interpretation of a statute or regulation.”

In accordance with E.O. 13891 and OMB Memorandum M-20-02, any existing DOE guidance document or associated web page that is not currently included in the online portal may, without further notice, be included in the online portal on or before June 27, 2020. Any existing DOE guidance document or associated web page not included in the online portal by that date will be re-issued according to the procedures in E.O. 13891.

Signed in Washington, DC, on February 27, 2020.
Daniel Cohen,
Assistant General Counsel for Legislation, Regulation and Energy Efficiency.

[FR Doc. 2020-04439 Filed 3-3-20; 8:45 am]

BILLING CODE 6450-01-P